DEPARTMENT OF DEFENSE

Department of the Army, Corps of Engineers

Notice of Availability of the Final Environmental Impact Statement/Section 404 Permit Application for the Southern Beltway Transportation Project from I-79 to the Mon/Fayette Expressway, Washington County, PA

AGENCY: U.S. Army Corps of Engineers, DOD.

ACTION: Notice of Availability.

SUMMARY: The U.S. Army Corps of Engineers (Corps), in cooperation with the Pennsylvania Turnpike Commission and the U.S. Environmental Protection Agency, as a Cooperating Agency, have prepared a Final Environmental Impact Statement (FEIS)/Section 404 Permit Application for the Southern Beltway Transportation Project from I-79 to the Mon/Fayette Expressway in Washington County, PA. The overall purpose of the project is to provide transportation mobility safety improvements, to relieve congestion, and to support economic development plans in southwestern Pennsylvania. The FEIS assesses the environmental effects of the various alternatives developed to address the project needs.

DATES: Comments concerning this FEIS should be submitted by December 15, 2008.

ADDRESSES: Submit written comments to: Scott A. Hans, Chief, Regulatory Branch, U.S. Army Corps of Engineers, Pittsburgh District, Moorhead Federal Building, 1000 Liberty Avenue, Pittsburgh, PA 15222-4186 or to: David P. Willis, Environmental Manager, Pennsylvania Turnpike Commission, P.O. Box 67676, Harrisburg, PA 17106.

FOR FURTHER INFORMATION CONTACT: Questions regarding the FEIS should be directed to: Mr. John S. Weres, Project Manager, at SAI Consulting Engineers, Inc., 1350 Penn Avenue, Pittsburgh, PA 15222 (412-392-8750).

SUPPLEMENTARY INFORMATION: 1. Authorization: The U.S. Army Corps of Engineers, Pittsburgh District, Regulatory Branch is considering an application from the Pennsylvania Turnpike Commission, 700 South Eisenhower Boulevard, P.O. Box 67676, Harrisburg, PA 17106-7676 under Section 404 of the Clean Water Act to construct the proposed action. The primary Federal concern is the discharge of fill materials (including permanent inundation) within Federal jurisdictional waters of the United States, and potential impacts on the human environment from such activities. The Corps' decision will be to either issue or deny a Department of the Army permit for the proposed action.

The FEIS has been prepared in accordance with the National Environmental Policy Act of 1969 (NEPA), pursuant to 42 U.S.C. 4332(2)(c) and Executive Order 11990, and with other appropriate federal laws and regulations, policies, and procedures of the Corps for compliance with those regulations.

2. Scoping Process: The Pennsylvania Turnpike Commission has held a series of Public Plans Displays and Public Meetings in the project area during the past several years, including a series of three meetings in August 2005 to present the alternatives developed in detail in the Draft Environmental Impact Statement (DEIS). To initiate the public scoping process for the DEIS in accordance with the Council on Environmental Quality (CEQ) and NEPA guidelines, the Corps published a Notice of Intent (NOI) in the Federal Register on October 23, 2007 (FR Doc. E7-20812).

3. Availability of the DEIS: Notice of Availability for the DEIS was published in the Federal Register on December 14, 2007. The DEIS was available for comment until February 8, 2008. A total of 48 comments were submitted to the Corps and the Pennsylvania Turnpike Commission. The Corps and the Pennsylvania Turnpike Commission considered public comments and concerns on the DEIS and incorporated into the FEIS as appropriate.

4. Public Hearing: A formal public hearing to receive comments on the DEIS was held by the Corps and the Pennsylvania Turnpike Commission on January 24, 2008, at the Canon-McMillan Senior High School in Canonsburg, PA. Both an open house plans display and a formal presentation was conducted, and a total of 10 individuals provided testimony regarding the project. The Corps and the Pennsylvania Turnpike Commission considered public comments and concerns and incorporated them into the FEIS as appropriate.

5. Availability of the FEIS: Individuals and agencies may offer comments on the FEIS by mailing the information to Mr. Scott A. Hans or to Mr. David P. Willis at the addresses provided in this notice prior to December 15, 2008. The Corps will finalize the Record of Decision no sooner than 30 days after the Notice of Availability of the FEIS. The FEIS and appendices are available for review and downloading from the Pennsylvania Turnpike Commission's project Web site at the following address: http://www.paturnpike.com/monfaySB/. Copies of the FEIS are available for public review at local municipal offices and public libraries in the project area. Copies of the technical support data and all documents referenced in the FEIS are available for public review by appointment at the Pittsburgh Office of SAI Consulting Engineers, Inc. 1350 Penn Avenue, Pittsburgh, PA 15222. Please contact Mr. John Weres at (412) 392-8750 to set up an appointment. Please note that only qualified individuals will be allowed to review the confidential cultural resources appendices. Copies of the FEIS and appendices are also available for public review at the locations noted below:

Scott A. Hans,
Chief, Regulatory Branch, Pittsburgh District—U.S. Army Corps of Engineers.

[FR Doc. E8-26970 Filed 11-13-08; 8:45 am]

BILLING CODE 3710-85-P